DEPARTMENT OF THE INTERIOR

Bureau of Indian Affairs

Renewal of Agency Information Collection for Home-Living Programs and School Closure and Consolidation; Comment Request

AGENCY: Bureau of Indian Affairs, Interior.

ACTION: Notice of Submission to the Office of Management and Budget.

SUMMARY: As required by the Paperwork Reduction Act, the Bureau of Indian Education (BIE), U.S. Department of the Interior, is submitting a request for renewal of the information collection for Home-living Programs and School Closure and Consolidation, currently authorized by OMB Control Number 1076-0164, to the Office of Management and Budget (OMB) for review.

DATES: Submit comments on or before May 2, 2011.

ADDRESSES: You may submit comments on the information collection to the Desk Officer for the Department of the Interior at the Office of Management and Budget, by facsimile to (202) 395-5806 or you may send an e-mail to: OIRA_DOCKET@ omb.eop.gov. Please send a copy of your comments to Juanita Keesing, Program Analyst, U.S. Department of the Interior, Bureau of Indian Education, 1849 C Street, NW., MS-3609, Washington, DC 20240; or via e-mail to Juanita.Keesing@bie.edu.

FOR FURTHER INFORMATION CONTACT: Juanita Keesing, Program Analyst, at (202) 208-3559. To see a copy of the entire collection submitted to OMB, go to http://www.reginfo.gov (select Information Collection Review, Currently Under Review).

SUPPLEMENTARY INFORMATION:

I. Abstract

Public Law 107-110, the No Child Left Behind (NCLB) Act of January 8, 2001, requires all schools including BIE-funded boarding/residential schools to ensure that all children have a fair, equal, and significant opportunity to obtain a high-quality education and reach, at a minimum, proficiency on challenging academic achievement standards and assessments. The NCLB Act, and implementing regulations at 25 CFR part 36, requires the BIE to implement national standards for home-living situations in all BIE-funded residential schools. The BIE must collect information from all BIE-funded residential schools in order to assess each school's progress in meeting the national standards. The BIE is seeking renewal of the approval for this information collection to ensure that minimum academic standards for the education of Indian children and criteria for dormitory situations in Bureau-operated schools and Indian-controlled contract schools are met.

II. Request for Comments

The BIE requests your comments on this information collection concerning: (a) The necessity of this information collection for the proper performance of the functions of the agency, including whether the information will have practical utility; (b) The accuracy of the agency's estimate of the burden (hours and cost) of the collection of information, including the validity of the methodology and assumptions used; (c) Ways we could enhance the quality, utility and clarity of the information to be collected; and (d) Ways we could minimize the burden of the collection of the information on the respondents, such as through the use of automated collection techniques or other forms of information technology. A notice requesting public comment on renewal of this information collection was previously published in the Federal Register on January 26, 2011 (76 FR 4720). No comments were received in response to that notice.

Please note that an agency may not sponsor or conduct, and an individual need not respond to, a collection of information unless it has a valid OMB Control Number. This information collection expires March 31, 2011.

It is our policy to make all comments available to the public for review at the location listed in the ADDRESSES section. Before including your address, phone number, e-mail address or other personally identifiable information, be advised that your entire comment—including your personally identifiable information—may be made public at any time. While you may request that we withhold your personally identifiable information, we cannot guarantee that we will be able to do so.

III. Data

OMB Control Number: 1076-0164.

Title: Home-living Programs and School Closure and Consolidation.

Brief Description of Collection: Submission of this information allows the Department of the Interior to ensure that minimum academic standards for the education of Indian children and criteria for dormitory situations in Bureau-operated schools and Indian-controlled contract schools are met. Response is required to obtain a benefit.

Type of Review: Extension without change of a currently approved collection.

Respondents: Indian tribes.

Number of Respondents: There are 66 schools with residential programs, of which 28 are Bureau-operated and 38 are tribally operated. Thus, the collection of information must be cleared for 38 of the 66 residential schools.

Total Number of Responses: 730 per year, on average.

Frequency of Response: Annually or on occasion, depending on the activity.

Estimated Time per Response: Ranges from 0.02 hours to 40 hours, depending on the activity.

Estimated Total Annual Burden: 1,344 hours.

Dated: March 14, 2011.
Alvin Foster,
Acting Chief Information Officer—Indian Affairs.

[FR Doc. 2011-7586 Filed 3-30-11; 8:45 am]

BILLING CODE 4310-4M-P